DEPARTMENT OF THE TREASURY

Internal Revenue Service

26 CFR Parts 1, 31, and 301

[REG-107186-00]

RIN 1545-AY50

Electronic Payee Statements; Hearing Cancellation

AGENCY: Internal Revenue Service (IRS), Treasury.

ACTION: Cancellation of notice of public hearing on proposed rulemaking.

SUMMARY: This document provides notice of cancellation of a public hearing on proposed regulations under sections 6041 and 6051 relating to the voluntary electronic furnishing of payee statements on Forms W-2.

DATES: The public hearing originally scheduled for June 4, 2001, at 10:00 a.m., is cancelled.

FOR FURTHER INFORMATION CONTACT: Sonya M. Cruse of the Regulations Unit at (202) 622-7180 (not a toll-free number).

SUPPLEMENTARY INFORMATION: A notice of proposed rulemaking and notice or public hearing that appeared in the Federal Register on Wednesday, February 14, 2001, (66 FR 10247), announced that a public hearing was scheduled for June 4, 2001 at 10 a.m., in the IRS Auditorium. The subject of the public hearing is proposed regulations under sections 6041 and 6051 of the Internal Revenue Code. The public comment period for these proposed regulations expired on May 14, 2001.

The notice of proposed rulemaking and notice of public hearing, instructed those interested in testifying at the public hearing to submit a request to speak and an outline of the topics to be addressed. As of Tuesday, May 15, 2001, no one has requested to speak. Therefore, the public hearing scheduled for June 4, 2001, is cancelled.

LaNita Van Dyke,
Acting Chief, Regulations Unit, Office of Special Counsel (Modernization & Strategic Planning).

[FR Doc. 01-12737 Filed 5-22-01; 8:45 am]

BILLING CODE 4830-01-P